DEPARTMENT OF LABOR

Employment and Training Administration

[TA-W-73,824]

Honeywell International, Inc., Automation and Control Solutions Division, Including On-Site Leased Workers From Manpower, Spherion, Securitas and ABM Janitorial Services North Central, Inc., Rock Island, IL; Amended Certification Regarding Eligibility To Apply for Worker Adjustment Assistance

In accordance with Section 223 of the Trade Act of 1974, as amended (“Act”), 19 U.S.C. 2273, the Department of Labor issued a Certification of Eligibility to Apply for Worker Adjustment Assistance on July 30, 2010, applicable to workers of Honeywell International, Inc., Automation and Control Solutions Division, Rock Island, Illinois. The notice was published in the Federal Register on August 13, 2010 (75 FR 49531). The notice was amended on December 7, 2010 to include several on-site leased worker firms. The amended notice was published in the Federal Register on December 13, 2010 (75 FR 77664-77665).

At the request of a company official, the Department reviewed the certification for workers of the subject firm. The workers are engaged in the production of rubber boots.

The company reports that workers leased from ABM Janitorial Services North Central, Inc. was employed on-site at the Rock Island, Illinois location of Honeywell International, Inc., Automation and Control Solutions Division. The Department has determined that these workers were sufficiently under the control of Honeywell International, Inc., Automation and Control Solutions Division to be considered leased workers.

Based on these findings, the Department is amending this certification to include workers leased from ABM Janitorial Services north Central, Inc. working on-site at the Rock Island, Illinois location of Honeywell International, Inc., Automation and Control Solutions Division.

The amended notice applicable to TA-W-73,824 is hereby issued as follows:

All workers of Honeywell International, Inc., Automation and Control Solutions Division, including on-site leased workers from Manpower, Spherion, Securitas, and ABM Janitorial Services North Central, Inc., Rock Island, Illinois, who became totally or partially separated from employment on or after March 29, 2009, through July 30, 2012, and all workers in the group threatened with total or partial separation from employment on the date of certification through two years from the date of certification, are eligible to apply for adjustment assistance under Chapter 2 of Title II of the Trade Act of 1974, as amended.

Signed at Washington, DC, this 19th day of December 2011.
Michael W. Jaffe,
Certifying Officer, Division of Trade Adjustment Assistance.

[FR Doc. 2011-33329 Filed 12-28-11; 8:45 am]

BILLING CODE 4510-FN-P